DEPARTMENT OF EDUCATION

Withdrawal of Notices Inviting Applications (NIA) and Cancellation of the Competitions for the High School Equivalency Program (HEP) and the College Assistance Migrant Program (CAMP)

AGENCY: Office of Elementary and Secondary Education, Department of Education.

ACTION: Notice; cancellation.

SUMMARY: The Department of Education (Department) withdraws the NIAs for fiscal year (FY) 2025 for new awards under HEP and CAMP.

DATES: The Notices Inviting Applications published in the Federal Register on August 30, 2024 (89 FR 70604 and 89 FR 70610) are withdrawn and the competitions cancelled as of September 18, 2025.

FOR FURTHER INFORMATION CONTACT: Dylan Hart-Medina, U.S. Department of Education, 400 Maryland Avenue SW, Washington, DC 20202. Telephone: (202) 987-1705. Email: Dylan.Hart-Medina@ed.gov.

If you are deaf, hard of hearing, or have a speech disability and wish to access telecommunications relay services, please dial 7-1-1.

SUPPLEMENTARY INFORMATION: On August 30, 2024, the Department published NIAs for each of the aforementioned programs in the Federal Register. The Department is withdrawing these NIAs and cancelling the competition for FY 2025 new award funding under these programs. This decision ensures that all priorities and requirements for Department programs align with the objectives established by the Trump Administration.

Intergovernmental Review: This program is subject to Executive Order 12372 and the regulations in 34 CFR part 79.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-18052 Filed 9-17-25; 8:45 am]

BILLING CODE 4000-01-P